ENVIRONMENTAL PROTECTION AGENCY

[EPA-R9-2024-02; FRL-12190-01-R9]

Notice of Proposed Administrative Settlement Agreement for Payment of Past Basin-Wide Remedial Investigation Response Costs at the Glendale North and South Operable Units of the San Fernando Valley (Area 2) Superfund Site in Glendale, California

AGENCY: Environmental Protection Agency (EPA).

ACTION: Notice of proposed settlement; request for public comment.

SUMMARY: In accordance with the Comprehensive Environmental Response, Compensation, and Liability Act of 1980, as amended (“CERCLA”), notice is hereby given that the Environmental Protection Agency (“EPA”), has entered into a proposed settlement, embodied in an Administrative Settlement Agreement for Recovery of Past Response Costs (“Settlement Agreement”), with the Glendale Respondents Group (“GRG”). Under the Settlement Agreement, the GRG agrees to pay $3,261,293 to reimburse EPA for costs paid at or in connection with the San Fernando Valley Basin-Wide Remedial Investigation between December 31, 1997, and September 30, 2016, that were allocated by EPA to the San Fernando Valley (Area 2) Superfund Site, Glendale North and South Operable Units (“GNOU” and “GSOU,” collectively the “GOUs”).

DATES: Comments must be received on or before October 3, 2024.

ADDRESSES: The Settlement Agreement is available for public inspection on EPA's web page at https://semspub.epa.gov/src/document/09/100037898.pdf, or at the United States Environmental Protection Agency, Superfund Records Center, 75 Hawthorne Street, Room 3110, San Francisco, California 94105. Telephone: 415-947-8717. Comments should be addressed to Stephanie Oehler, Assistant Regional Counsel, Office of Regional Counsel (ORC-3), U.S. Environmental Protection Agency, 75 Hawthorne Street, San Francisco, California 94105; or emailed to oehler.stephanie@epa.gov and should reference the GOUs and the EPA Docket Number for the Settlement Agreement, EPA R9-2024-02. EPA's response to any comments received will be available for public inspection at the same address. EPA will also post its response to comments at https://cumulis.epa.gov/supercpad/SiteProfiles/index.cfm?fuseaction=second.docdata&id=0902252, EPA's web page for the San Fernando Valley (Area 2) Superfund Site.

FOR FURTHER INFORMATION CONTACT: Stephanie Oehler, Assistant Regional Counsel, Office of Regional Counsel (ORC-3), U.S. Environmental Protection Agency, 75 Hawthorne Street, San Francisco, California 94105; oehler.stephanie@epa.gov; 415-972-3928.

SUPPLEMENTARY INFORMATION: Notice of this proposed Settlement Agreement is made in accordance with section 122(i) of CERCLA, 42 U.S.C. 9622(i). The Settlement Agreement concerns costs paid by EPA for the San Fernando Valley Basin-Wide Remedial Investigation, in connection with the San Fernando Valley (Area 2) Superfund Site and the GOUs. These are CERCLA response actions taking place in Los Angeles County, California, where groundwater contamination has come to be located. The GRG, which agrees to pay $3,261,293, is the only party to the Settlement Agreement. EPA intends to seek to recover the remaining San Fernando Valley Basin-Wide Remedial Investigation response costs from other responsible parties in the future; however, because EPA is not recovering one hundred percent of its past costs at this time, this Settlement Agreement represents a compromise of EPA's costs. The Settlement Agreement includes two covenants not to sue pursuant to sections 106 and 107(a) of CERCLA, 42 U.S.C. 9606 and 9607(a). EPA will consider all comments received on the Settlement Agreement in accordance with the DATES and ADDRESSES sections of this Notice and may modify or withdraw its consent to the Settlement Agreement if comments received disclose facts or considerations that indicate that the settlement is inappropriate, improper, or inadequate.

Parties to the Proposed Settlement: Coltec Industries, Inc., Menasco Aerosystems Division; Eaton Filtration LLC, as successor in interest to Vickers Incorporated; Foto-Kem Industries, Inc.; Haskel International, LLC, formerly Haskel International, Inc.; International Electronic Research Corporation; ITT LLC, as successor in interest to ITT Industries, Inc.; Lockheed Martin Corporation; Lockheed Martin Librascope Corporation; Pacific Bell Telephone Company, formerly Pacific Bell, formerly The Pacific Telephone and Telegraph Company; Philips North America LLC, as successor in interest to Philips Components, a Division of Philips Electronics North America Corporation; PRC-DeSoto International, Inc., formerly Courtaulds Aerospace, Inc.; The Prudential Insurance Company of America; Ralphs Grocery Co.; Union Pacific Railroad Company, formerly Southern Pacific Transportation Co.; Vorelco, Inc.; and Walt Disney Pictures and Television.

Dated: August 27, 2024.
Dana Barton,
Acting Director, Superfund and Emergency Management Division, EPA Region 9.

[FR Doc. 2024-19708 Filed 8-30-24; 8:45 am]

BILLING CODE 6560-50-P